ENVIRONMENTAL PROTECTION AGENCY

40 CFR Part 63

[EPA-HQ-OAR-2010-0895; FRL-9920-03-OAR]

RIN 2060-AQ11

National Emission Standards for Hazardous Air Pollutants: Ferroalloys Production; Extension of Comment Period

AGENCY: Environmental Protection Agency.

ACTION: Supplemental notice of proposed rulemaking; extension of public comment period.

SUMMARY: The Environmental Protection Agency (EPA) is announcing that the period for providing public comments on the October 6, 2014, supplemental proposed rule titled “National Emission Standards for Hazardous Air Pollutants: Ferroalloys Production” is being extended an additional 11 days.

DATES: The public comment period for the supplemental proposed rule published October 6, 2014 (79 FR 60238), and initially extended by 18 days on November 14, 2014 (79 FR 68152), is being extended an additional 11 days to December 19, 2014, in order to provide the public additional time to submit comments and supporting information. The EPA received a request for an extension from ERAMET Marietta, Incorporated to gather and analyze data and formulate their comments on the supplemental proposed amendments.

ADDRESSES: Written comments on the supplemental proposed rule may be submitted to EPA electronically, by mail, by facsimile or through hand delivery/courier. Please refer to the supplemental proposal (79 FR 60238) for the addresses and detailed instructions.

Docket. Publicly available documents relevant to this action are available for public inspection either electronically at http://www.regulations.gov or in hard copy at the EPA Docket Center, Room 3334, 1301 Constitution Avenue NW., Washington, DC. The Public Reading Room is open from 8:30 a.m. to 4:30 p.m., Monday through Friday, excluding legal holidays. A reasonable fee may be charged for copying. The official public docket for this rulemaking is Docket No. EPA-HQ-OAR-2010-0895.

World Wide Web. The EPA Web site for this rulemaking is at http://www.epa.gov/ttn/atw/ferroa/ferropg.html.

FOR FURTHER INFORMATION CONTACT: Mr. Phil Mulrine, Metals and Inorganic Chemicals Group (D243-02), Sector Policies and Programs Division, Office of Air Quality Planning and Standards, U.S. Environmental Protection Agency, Research Triangle Park, North Carolina 27711; Telephone number: (919) 541-5289; Fax number (919) 541-3207; Email address: mulrine.phil@epa.gov.

SUPPLEMENTARY INFORMATION:

Comment Period

After considering the request received from ERAMET Marietta, Incorporated to extend the public comment period, the EPA has decided to extend the public comment period for an additional 11 days. Therefore, the public comment period will end on December 19, 2014, rather than December 8, 2014.

Dated: November 25, 2014.
Mary E. Henigin,
Acting Director, Office of Air Quality Planning and Standards.

[FR Doc. 2014-28387 Filed 12-4-14; 8:45 am]

BILLING CODE 6560-50-P